DEPARTMENT OF HEALTH AND HUMAN SERVICES

Centers for Medicare & Medicaid Services

Medicaid Program; Notice of Single Source Grant Award to the State of Louisiana for the Grant Entitled “Deficit Reduction Act—Hurricane Katrina Healthcare Related Professional Workforce Supply”

AGENCY: Centers for Medicare & Medicaid Services (CMS), HHS.

ACTION: Notice.

Funding Amount: $15,000,000.

Period of Performance: March 1, 2007-September 30, 2009.

SUMMARY: On March 1, 2007, this grant program was made available to the State of Louisiana to fund State payments for professional healthcare workforce fulfillment in Greater New Orleans, which has continued to face unique health professional shortages as a result of Hurricane Katrina and its subsequent floods. With nearly 4,500 doctors displaced and approximately 50 percent of the physicians who worked in Region 1 before Hurricane Katrina, no longer practicing there, Greater New Orleans is experiencing a shortage of primary care doctors to see Medicaid and uninsured patients.

Funding recently awarded under this grant program must be used by the State to make payments for purposes of recruitment and retention of professional healthcare staff for the impacted communities. For purposes of this grant, impacted communities are those four parishes located in the State of Louisiana that comprise Region 1, as defined by the Louisiana Department of Health and Hospitals, namely, Orleans, Jefferson, St. Bernard, and Plaquemines.

The grant funds must be used only for purposes of recruitment or retention of healthcare workforce professionals in Greater New Orleans. The State has been given flexibility in determining the payment methodology, the scope and type of activities, criteria for awarding payment, and the amount of payments to be made to such professionals. Payment recipients are limited to licensed healthcare professionals. Activities include those that were recommended by the Louisiana Health Care Redesign Collaborative (LHCRC) in their concept paper submitted to the Secretary on October 20, 2006. These activities include but are not limited to: Income guarantees, annual medical malpractice payment relief, loan repayments, and incentive payments (relocation expenses and sign-on bonuses). Grant funds may not be distributed to staff who are no longer providing professional healthcare services in the Greater New Orleans area at the time of the disbursement of grant funds. All payments must be made under this grant program by the end of federal fiscal year 2009.

Payments to physicians and other professional healthcare workforce staff under this program are not allowed to be considered payments for Medicare, Medicaid or other specific services, and are not available as the non-Federal share of expenditures or for supplemental disproportionate share hospital payments. Payments cannot be made conditional on the provision of any particular items or services by the professionals. Grant applications requesting funds to be used for the non-Federal share of Medicaid or other federal grant expenditures or for supplemental Medicaid disproportionate share hospital payments will not be considered.

This award was made based on the authority granted by section 6201 of the Deficit Reduction Act (DRA). In particular, section 6201(a)(4) of the DRA provides authority to the Secretary, Department of Health and Human Services (DHHS), to make payments to States to restore access to healthcare in communities impacted by Hurricane Katrina.

Justification For Exception To Competition: The Secretary invoked his authority to restore healthcare in impacted communities affected by Hurricane Katrina by offering this unique funding opportunity which will give further incentive to the retention and recruitment of healthcare workforce professionals in Greater New Orleans. Louisiana is the only State with knowledge and ability to administer a grant designed to affect impacted Louisiana communities. For this reason, the Secretary has directed the Centers for Medicare & Medicaid Services to issue a single-source award to the State of Louisiana to increase access to healthcare services and to relieve economic pressures suffered by healthcare providers resulting from both the hurricane and its subsequent flooding.

FOR FURTHER INFORMATION CONTACT: Wendy J. Taparanskas, Ph.D., Health Insurance Specialist, Office of the Center Director, Centers for Medicaid and State Operations, Centers for Medicare & Medicaid Services, Mail Stop S2-26-12, 7500 Security Boulevard, Baltimore, MD 21244, (410) 786-5245.

Authority: Section 6201(a)(4) of the Deficit Reduction Act of 2005 (DRA).

Dated: May 7, 2007.
Leslie V. Norwalk,
Acting Administrator, Centers for Medicare & Medicaid Services.

Grant Award-Louisiana

[FR Doc. E7-9792 Filed 5-21-07; 8:45 am]

BILLING CODE 4120-01-P